DEPARTMENT OF THE INTERIOR

Fish and Wildlife Service

50 CFR Part 20

[Docket No. FWS-R9-MB-2012-0038; FF09M21200-123-FXMB1231099BPP0L2]

RIN 1018-AY66

Migratory Bird Hunting; Application for Approval of Fluoropolymeric Shot Coatings as Nontoxic for Waterfowl Hunting

AGENCY: Fish and Wildlife Service, Interior.

ACTION: Notice of application for nontoxic shot approval.

SUMMARY: We, the U.S. Fish and Wildlife Service, announce that Spectra Shot, LLC, of Lafayette, Louisiana, has applied for approval of steel shot with fluoropolymeric coatings as nontoxic for waterfowl hunting in the United States. Steel shot has long been approved for waterfowl hunting. The coatings will add less than 2 mg to the mass of a shot pellet. We have initiated review of the shot coatings under the criteria we have set out in our nontoxic shot approval procedures in our regulations.

DATES: This notice announces the initiation of our review of a Tier 1 application submitted in accordance with 50 CFR 20.134. We will complete the review of the application by September 4, 2012.

ADDRESSES: If we conclude that the application warrants a regulations change, you will be able to view the application and supporting materials by one of the following methods:

• Federal eRulemaking Portal: http://www.regulations.gov. Search for Docket No. FWS-R9-MB-2012-0038.

• Request a copy by contacting the person listed under FOR FURTHER INFORMATION CONTACT.

FOR FURTHER INFORMATION CONTACT: George Allen, at 703-358-1825.

SUPPLEMENTARY INFORMATION:

Background

The Migratory Bird Treaty Act of 1918 (Act) (16 U.S.C. 703-712 and 16 U.S.C. 742 a-j) implements migratory bird treaties between the United States and Great Britain for Canada (1916 and 1996 as amended), Mexico (1936 and 1972 as amended), Japan (1972 and 1974 as amended), and Russia (then the Soviet Union, 1978). These treaties protect most migratory bird species from take, except as permitted under the Act, which authorizes the Secretary of the Interior to regulate take of migratory birds in the United States. Under this authority, we control the hunting of migratory game birds through regulations in 50 CFR part 20. We prohibit the use of shot types other than those listed in the Code of Federal Regulations (CFR) at 50 CFR 20.21(j) for hunting waterfowl and coots and any species that make up aggregate bag limits.

Since the mid-1970s, we have sought to identify types of shot for waterfowl hunting that are not toxic to migratory birds or other wildlife when ingested. We have approved nontoxic shot types and added them to the migratory bird hunting regulations in 50 CFR 20.21(j). We will continue to review all shot types submitted for approval as nontoxic.

Current Application

Spectra Shot, LLC, has submitted its application to us with the counsel that it contains all of the specified information required by 50 CFR 20.134 for a complete Tier 1 submittal, and has requested unconditional approval pursuant to the Tier 1 timeframe. Having determined that the application is complete, we have initiated a comprehensive review of the Tier 1 information under 50 CFR 20.134. After review, we will either publish a notice of review to inform the public that the Tier 1 test results are inconclusive, or we will publish a proposed rule to approve the candidate shot coating.

If the Tier 1 tests are inconclusive, the notice of review will indicate what other tests we will require before we will again consider approval of the shot coating as nontoxic. If the Tier 1 data review results in a preliminary determination that the coating does not pose a significant toxicity hazard to migratory birds, other wildlife, or their habitats, the Service will commence with a rulemaking proposing to approve the coating and add it to our list at 50 CFR 20.21(j).

Authority: We publish this notice under the authority of the Migratory Bird Treaty Act (16 U.S.C. 703-712 and 16 U.S.C. 742 a-j) and in accordance with the regulations at 50 CFR 20.134(b)(2)(i)(D)(3).

Dated: June 27, 2012.
Michael J. Bean,
Acting Assistant Secretary for Fish and Wildlife and Parks.

[FR Doc. 2012-16543 Filed 7-5-12; 8:45 am]

BILLING CODE 4310-55-P